NUCLEAR REGULATORY COMMISSION

[Docket No. 72-27; NRC-2022-0050]

Pacific Gas and Electric Company; Humboldt Bay Independent Spent Fuel Storage Installation

AGENCY: Nuclear Regulatory Commission.

ACTION: License amendment application and exemption; issuance.

SUMMARY: The U.S. Nuclear Regulatory Commission (NRC) is issuing License Amendment No. 5 to Special Nuclear Materials (SNM) License No. SNM-2514 for the Humboldt Bay Independent Spent Fuel Storage Installation (ISFSI), located in Humboldt County, California, and is granting an exemption that would relieve Pacific Gas and Electric Company (PG&E, the licensee) from the requirement to submit annual effluent monitoring reports for the Humboldt Bay ISFSI. The requested amendment proposes to delete and make administrative changes to certain license conditions, revise certain technical specifications that are no longer applicable to the Humboldt Bay ISFSI, and add a new administrative technical specification concerning the processing of administrative changes to Humboldt Bay ISFSI's quality assurance program. The amendment also removes license condition 18, which requires the licensee to update its final safety analysis report within 90 days of the NRC issuing a renewed license.

DATES: The amendment and exemption were issued on October 11, 2022.

ADDRESSES: Please refer to Docket ID NRC-2022-0050 when contacting the NRC about the availability of information regarding this action. You may obtain publicly available information related to this action using any of the following methods:

• Federal Rulemaking Website: Go to https://www.regulations.gov and search for Docket ID NRC-2022-0050. Address questions about Docket IDs in Regulations.gov to Stacy Schumann; telephone: 301-415-0624; email: Stacy.Schumann@nrc.gov. For technical questions, contact the individual listed in the For Further Information Contact section of this document.

• NRC's Agencywide Documents Access and Management System (ADAMS): You may obtain publicly available documents online in the ADAMS Public Documents collection at https://www.nrc.gov/reading-rm/adams.html. To begin the search, select “Begin Web-based ADAMS Search.” For problems with ADAMS, please contact the NRC's Public Document Room (PDR) reference staff at 1-800-397-4209, 301-415-4737, or by email to PDR.Resource@nrc.gov. The ADAMS accession number for each document referenced (if it is available in ADAMS) is provided the first time that it is mentioned in this document.

• NRC's PDR: You may examine and purchase copies of public documents, by appointment, at the NRC's PDR, Room P1 B35, One White Flint North, 11555 Rockville Pike, Rockville, Maryland 20852. To make an appointment to visit the PDR, please send an email to PDR.Resource@nrc.gov or call 1-800-397-4209 or 301-415-4737, between 8:00 a.m. and 4:00 p.m. Eastern Time (ET), Monday through Friday, except Federal holidays.

FOR FURTHER INFORMATION CONTACT: Donald Habib, Office of Nuclear Material Safety and Safeguards, U.S. Nuclear Regulatory Commission, Washington, DC 20555-0001, telephone: 301-415-1035, email: Donald.Habib@nrc.gov.

SUPPLEMENTARY INFORMATION:

I. License Amendment

By letter dated December 14, 2021 (ADAMS Accession No. ML21348A389), the NRC received an application from PG&E, the licensee of the Humboldt Bay ISFSI, to amend License No. SNM-2514, which authorizes the receipt, possession, storage, and transfer of spent fuel, reactor-related greater than Class C waste, and other greater than Class C radioactive materials at the Humboldt Bay ISFSI. The requested amendment incorporates the following changes to the license:

1. Makes administrative changes to license conditions that reference Humboldt Bay Power Plant.

2. Deletes license conditions that are complete, no longer applicable, or restate NRC regulations.

3. Revises technical specifications to remove Humboldt Bay Power Plant systems, structures, components, and activities that are no longer applicable.

4. Adds a new administrative technical specification for processing administrative changes to the Humboldt Bay ISFSI Quality Assurance Program.

An administrative completeness review found the application acceptable for a technical review (ADAMS Accession No. ML22027A468). In accordance with section 72.16 of title 10 of the Code of Federal Regulations (10 CFR), a notice of docketing was published in the Federal Register on March 8, 2022 (87 FR 13011). The notice of docketing included an opportunity to request a hearing and to petition for leave to intervene. No requests for a hearing or petitions for leave to intervene were submitted. In a letter to PG&E dated February 3, 2022, the NRC notified PG&E that the application was acceptable to begin a technical review.

In addition to the changes proposed in PG&E's license amendment request, the NRC staff considered in its evaluation removal from the license of condition 18, which requires the licensee to incorporate certain changes in its final safety analysis report within 90 days of the NRC issuing a renewed license.

The NRC staff prepared a safety evaluation report (SER) (ADAMS Accession No. ML22214A119) to document its review and evaluation of the amendment request. As part of the review, the NRC staff determined that condition 18 could be removed from the license because the actions required under the condition had been completed by the licensee.

The NRC also determined that one of the changes requested in PG&E's application required exemption from NRC regulations. The staff's evaluation of the exemption is discussed as follows.

As further explained in the SER, the NRC determined that the license amendment is administrative in nature, and therefore satisfies the 10 CFR 51.22(c)(11) criteria for a categorical exclusion from the requirement to prepare an environmental impact statement. Under 10 CFR 51.22(c)(11), this action is eligible for categorical exclusion, because it is an amendment to a materials license that is administrative, organizational, or procedural in nature, or which results in a change in process operations or equipment, provided that (i) there is no significant change in the types or significant increase in the amounts of any effluents that may be released offsite, (ii) there is no significant increase in individual or cumulative occupational radiation exposure, (iii) there is no significant construction impact, and (iv) there is no significant increase in the potential for or consequences from radiological accidents. This administrative change would not result in any of the effects listed in 10 CFR 51.22(c)(11). Consequently, an environmental assessment and finding of no significant impact are not required.

Upon completing its review, the NRC staff determined that the request complies with the standards and requirements of the Atomic Energy Act of 1954, as amended (the Act), as well as the NRC's rules and regulations. The Commission has made appropriate findings as required by the Act and the Commission's rules and regulations in 10 CFR chapter I, that are set forth in the license amendment. The NRC approved and issued Amendment No. 5 to License No. SNM-2514 for the receipt, possession, transfer, and storage of spent fuel and associated radioactive materials at the Humboldt Bay ISFSI (ADAMS Package Accession No. ML22214A115). Pursuant to 10 CFR 72.46(d), the NRC is providing notice of the action taken. Amendment No. 5 was effective as of the date of issuance.

II. Exemption

Pursuant to 10 CFR 72.7, the Commission may, upon application by any interested person or upon its own initiative, grant such exemptions from the requirements of the regulations of 10 CFR part 72 as it determines are authorized by law and will not endanger life or property or the common defense and security and are otherwise in the public interest.

Under 10 CFR 72.44(d)(3), the licensee for an ISFSI is required to submit an annual report to NRC specifying the quantities of radionuclides released in gaseous and liquid and gaseous effluents during the previous year. Among the license changes included in Amendment No. 5 is a revision to technical specification 5.1.2 a. stating that there are no radioactive gaseous or liquid effluents released from the Humboldt Bay ISFSI during operation, a radioactive effluent monitoring system is not required, routine monitoring for effluents is not performed, and the licensee is exempted from the reporting requirements of 10 CFR 72.44(d)(3). The staff determined that this change required an exemption from 10 CFR 72.44(d)(3) and evaluated the exemption in accordance with the requirements of 10 CFR 72.7. Reproduced in this notice is the NRC's evaluation from the SER of the exemption granted to PG&E for the Humboldt Bay ISFSI with minor edits.

Pursuant to 10 CFR 72.7, the Commission may, upon application by any interested person or upon its own initiative, grant such exemptions from the requirements of the regulations in 10 CFR part 72 as it determines are authorized by law and will not endanger life or property or the common defense and security and are otherwise in the public interest. As discussed in section 3.1.2.4.1 of [the] SER, the staff determined that revising Technical Specification 5.1.2.a to state that the effluent reporting requirements of 10 CFR 72.44(d)(3) do not apply to the Humboldt Bay ISFSI would require that NRC grant an exemption from 72.44(d)(3). Therefore, the staff evaluated the exemption to determine whether the granting of this exemption would meet the criteria specified in 10 CFR 72.7.

Section 72.44(d)(3) of 10 CFR requires:

An annual report be submitted to the Commission in accordance with 10 CFR 72.4, specifying the quantity of each of the principal radionuclides released to the environment in liquid and in gaseous effluents during the previous 12 months of operation and such other information as may be required by the Commission to estimate maximum potential radiation dose commitment to the public resulting from effluent releases. On the basis of this report and any additional information that the Commission may obtain from the licensee or others, the Commission may from time to time require the licensee to take such action as the Commission deems appropriate. The report must be submitted within 60 days after the end of the 12-month monitoring period.

Authorized by Law

The Commission has the legal authority to issue exemptions from the requirements of 10 CFR part 72 as provided in 10 CFR 72.7. The NRC staff has determined that issuance of this exemption is consistent with the Act, and not otherwise inconsistent with NRC regulations or other applicable laws. Therefore, issuance of the exemption is authorized by law.

Will Not Endanger Life or Property or the Common Defense and Security

Granting the exemption would relieve PG&E of the requirement to submit annual radiological effluent monitoring reports for the Humboldt Bay ISFSI. Under its current license and [updated final safety analysis report], the Humboldt Bay ISFSI does not release effluents to the environment and PG&E does not conduct effluent monitoring. Therefore, there is no monitoring data to be submitted to the NRC in an annual effluent monitoring report. The change does not alter or impede the design, function, or operation of any ISFSI structure, system, or component associated with the facility's security and, therefore, does not affect any ISFSI equipment that is necessary to maintain a safe and secure status. In addition, the change has no impact on ISFSI security or safeguards. Not submitting an annual radiological effluent monitoring report, therefore, will not endanger life or property or the common defense and security.

Separate from the radiological effluent monitoring report required under 10 CFR 72.44(d)(3), PG&E currently conducts thermoluminescent dosimeter monitoring for the site and reports this monitoring data to the NRC in an annual radiological environmental monitoring report. PG&E submits these reports to demonstrate that it meets the requirements of 10 CFR 72.104, “Criteria for radioactive materials in effluents and direct radiation from an ISFSI or MRS.” PG&E has recently submitted these reports on March 8, 2022, February 18, 2021, March 5, 2020, March 14, 2019, and April 26, 2018. In issuing this exemption, the NRC is not relieving PG&E of the requirements related to the thermoluminescent dosimeter monitoring under 10 CFR 72.104.

Otherwise in the Public Interest

Granting the exemption would relieve PG&E of the requirement to submit annual radiological effluent monitoring reports for the Humboldt Bay ISFSI. Because the Humboldt Bay ISFSI emits no effluents and conducts no effluent monitoring, submitting the annual effluent monitoring report imposes an administrative burden without providing a commensurate benefit to public health and safety or the environment. Relieving PG&E of the annual effluent monitoring report requirement would therefore be in the public interest because it would reduce the administrative burden on PG&E in making the report to the NRC, which would preserve NRC staff resources because NRC will no longer have to receive, review, or inspect to the report that is not necessary for this facility. The NRC finds that the relief given would not impact public health and safety or the environment.

Accordingly, PG&E's proposed Technical Specification 5.1.2 a. is further revised by the NRC staff the following to reflect the issued exemption:

5.1.2 Radioactive Effluent Control Program

a. This program is established and maintained to implement the requirements of 10 CFR 72.44(d) or 72.126, as appropriate. There are no radioactive gaseous or liquid effluents released from the Humboldt Bay ISFSI during operation. Therefore, a radioactive effluent monitoring system is not required, routine monitoring for effluents is not performed, and the licensee is exempted from the reporting requirements under of 10 CFR 72.44(d)(3).

The NRC's environmental evaluation of the exemption from the SER is reproduced as follows:

The exemption of the annual reporting requirements under 10 CFR 72.44(d)(3) to the Humboldt Bay ISFSI License No. SNM-2514 would not significantly change the types or significantly increase the amounts of any effluents that may be released offsite. In addition, the staff determined that there is no significant increase in individual or cumulative occupational radiation exposure. Further, the proposed change does not involve construction of any kind, and therefore there is no significant construction impact. The exemption does not involve an increase in the potential for consequences from radiological accidents and the total offsite doses remain below the 10 CFR 72.104 limits and are considered acceptable. Accordingly, the exemption meets the eligibility criterion for categorical exclusion set forth in 10 CFR 51.22(c)(11) and, pursuant to 10 CFR 51.22(b), no environmental impact statement or environmental assessment need be prepared in connection with the exemption.

III. Conclusion

Using the reasons set forth in the safety evaluation, the staff issued an exemption and granted the license amendment request on October 11, 2022 (ADAMS Package Accession No. ML22214A115).

Dated: December 9, 2022.
For the Nuclear Regulatory Commission.
Bernard H. White,
Acting Chief, Storage and Transportation Licensing Branch, Division of Fuel Management, Office of Nuclear Material Safety and Safeguards.

[FR Doc. 2022-27093 Filed 12-13-22; 8:45 am]

BILLING CODE 7590-01-P